ENVIRONMENTAL PROTECTION AGENCY

[ER-FRL-9005-1]

Environmental Impacts Statements; Notice of Availability

Responsible Agency: Office of Federal Activities, General Information (202) 564-7146 or http://www.epa.gov/compliance/nepa/.

Weekly receipt of Environmental Impact Statements.

Filed 09/03/2012 Through 09/07/2012.

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Starting October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp.

EIS No. 20120296, Draft EIS, BLM, CO, White River Field Office Oil and Gas Development, Resource Management Plan Amendment, Rio Blanco, Garfield, Moffat Counties, CO, Comment Period Ends: 12/12/2012, Contact: Heather Sauls 970-878-3855.

EIS No. 20120297, Draft EIS, FHWA, OR, OR 62: I-5 to Dutton Road (Medford) Project, New Highway Construction, Funding, USACE Section 404 Permit, Jackson County, OR, Comment Period Ends: 10/29/2012, Contact: Chris Bucher 503-316-2555.

EIS No. 20120298, Final EIS, USFS, 00, Kiowa, Rita Blanca, Black Kettle, and McClellan Creek National Grasslands Land and Resource Management Plan, Implementation, Cibola National Forest and National Grasslands, Mora, Harding, Union, and Colfax Counties, NM; Dallam, Hemphill, and Gray Counties, TX; and Cimarron and Rogers Mills Counties, OK, Review Period Ends: 10/15/2012, Contact: Champe Green 505-346-3889.

EIS No. 20120299, Final EIS, BLM, CA, Imperial Sand Dunes Recreation Area Management Plan, Proposed Amendment to the California Desert Conservation Area Plan, Imperial County, CA, Review Period Ends: 10/15/2012, Contact: Greg Hill 951-697-5395.

EIS No. 20120300, Draft EIS, USN, MD, Medical Facilities Development and University Expansion at Naval Support Activity Bethesda, Montgomery County, MD, Comment Period Ends: 10/29/2012, Contact: Joseph Macri 301-295-1803.

EIS No. 20120301, Draft EIS, NPS, IN, Indiana Dunes National Lakeshore, Shoreline Restoration and Management Plan, Lake, Porter, and LaPorte Counties, IN, Comment Period Ends: 11/13/2012, Contact: Constantine J. Dillon 219-926-7561.

Amended Notices

EIS No. 20120235, Draft Supplement, FRA, CA, California High-Speed Train (HST): Fresno to Bakersfield Section High-Speed Train, Reintroducing Alignment Alternatives and an Additional Alternative through the Bakersfield Area, USACE Section 10 and 404 Permits, Fresno, Kings, Tulare, and Kern Counties, CA, Comment Period Ends: 10/19/2012, Contact: David Valenstein 202-493-6381. Revision to FR Notice Published 07/20/2012; Extending Comments Period from 09/20/2012 to 10/19/2012.

Dated: September 11, 2012.
Cliff Rader,
Director, NEPA Compliance Division, Office of Federal Activities.

[FR Doc. 2012-22739 Filed 9-13-12; 8:45 am]

BILLING CODE 6560-50-P